DEPARTMENT OF TRANSPORTATION

Federal Aviation Administration

14 CFR Part 39

[Docket No. FAA-2005-21239; Directorate Identifier 2005-CE-27-AD; Amendment 39-14263; AD 2005-18-22]

RIN 2120-AA64

Airworthiness Directives; Raytheon Aircraft Company Model 390 Premier 1 Airplanes

AGENCY: Federal Aviation Administration (FAA), DOT.

ACTION: Final rule.

SUMMARY: The FAA adopts a new airworthiness directive (AD) for certain Raytheon Aircraft Company (Raytheon) Premier 1 390 airplanes. This AD requires you to verify minimum clearances to correct chafing conditions in the powerplant left-hand and right-hand engine installations. This AD results from reports of inadequate left-hand and right-hand engine assembly cable, wire, and hose routing clearance. We are issuing this AD to detect and correct chafing conditions in the engine installation, which could result in leaking flammable fluids near an ignition source. This failure could lead to fire damage or loss of airplane control.

DATES: This AD becomes effective on November 14, 2005.

As of November 14, 2005, the Director of the Federal Register approved the incorporation by reference of certain publications listed in the regulation.

ADDRESSES: To get the service information identified in this AD, contact Raytheon Aircraft Company, P.O. Box 85, Wichita, Kansas 67201-0085; telephone: (800) 429-5372 or 316-676-3140.

To view the AD docket, go to the Docket Management Facility; U.S. Department of Transportation, 400 Seventh Street, SW., Nassif Building, Room PL-401, Washington, DC 20590-001 or on the Internet at http://dms.dot.gov. The docket number is FAA-2005-21239; Directorate Identifier 2005-CE-27-AD.

FOR FURTHER INFORMATION CONTACT: James P. Galstad, Aerospace Engineer, FAA, Wichita ACO, 1801 Airport Road, Wichita, Kansas 67209; telephone: (316) 946-4135; facsimile: (316) 946-4107.

SUPPLEMENTARY INFORMATION:

Discussion

What events have caused this AD? The FAA has received reports of chafing conditions in the powerplant left-hand and right-hand engine assembly cable, wire, and hose routing clearance. The incidents of chafing have been reported on airplane serial numbers: RB-20, RB-50, RB-61, and RB-101.

Investigation revealed that the areas of concern include control cables, wiring harnesses, fluid and drain hoses, and support structure. Further, FAA determined that the cause of the unsafe condition relates to the design and quality control.

Raytheon developed kits and service information to correct the chafing conditions.

What is the potential impact if FAA took no action? The existence of chafing conditions in the engine installation could result in leaking flammable fluids near an ignition source. This failure could lead to fire damage or loss of airplane control.

Has FAA taken any action to this point? We issued a proposal to amend part 39 of the Federal Aviation Regulations (14 CFR part 39) to include an AD that would apply to certain Raytheon Aircraft Company Model 390 Premier airplanes. This proposal was published in the Federal Register as a notice of proposed rulemaking (NPRM) on June 1, 2005 (70 FR 31393). The NPRM proposed to require you to install a kit to correct chafing conditions in the powerplant left-hand and right-hand engine installations.

Comments

Was the public invited to comment? We provided the public the opportunity to participate in developing this AD. The following presents the comments received on the proposal and FAA's response to each comment:

Comment Issue No. 1: Request To Change the Compliance Time Wording

What is the commenter's concern? The Luftfahrt-Bundesamt (LBA), which is the airworthiness authority for Germany, requests that FAA change the compliance time wording to prevent any misunderstanding and/or non-compliance of the AD requirements. The LBA's request notes, that if none of the inspection events (100-hour or annual inspection) occurs within 30 days after the effective date of the AD, the actions of the AD are not required.

What is FAA's response to the concern? The FAA agrees that the compliance time in the AD could currently be misinterpreted. We are rewording the compliance time to be more specific and to help eliminate any possible confusion.

Comment Issue No. 2: Revision of Raytheon Aircraft Company Service Mandatory Service Bulletin No. SB 71-3685 and New Kits

What is the commenter's concern? Raytheon's comment notes that subsequent to the original release of SB No. 71-3685, several customers discovered that one of the tube assemblies, part number (P/N) 390-910091-0005, provided in the Kit No. 390-9104-0001, interfered with the engine case on their airplanes. Raytheon has corrected the problem with two new kits, which are called out in SB No. 71-3685 Rev. 1, Issued: May 2005, Revised July 2005. The Kit No. 390-9104-0003 is for owners/operators who attempted to comply with the original issuance of the service bulletin and could not. The Kit No. 390-9104-0005 is for owner/operators who have not complied with the original issuance of the service bulletin.

What is FAA's response to the concern? Raytheon revised Mandatory Service Bulletin No. SB 71-3685 to the Revision 1, dated July 2005, level because it was not possible to comply with the Kit requirements as originally specified for some airplanes. The revision references kits and specifies how to comply with the action.

Incorporating the revised service bulletin only makes compliance possible and does not increase the burden originally proposed in the NPRM. Therefore, FAA has determined that the final rule should incorporate Raytheon Mandatory Service Bulletin No. SB 71-3685, Rev. 1, dated July 2005.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM.

Docket Information

Where can I go to view the docket information? You may view the AD docket that contains information relating to this subject in person at the DMS Docket Offices between 9 a.m. and 5 p.m. (eastern time), Monday through Friday, except Federal holidays. The Docket Office (telephone 1-800-647-5227) is located on the plaza level of the Department of Transportation NASSIF Building at the street address stated in ADDRESSES. You may also view the AD docket on the Internet at http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 74 airplanes in the U.S. registry.

What is the cost impact of this AD on owners/operators of the affected airplanes? We estimate the following costs to do the installation of the kit(s) to correct chafing conditions in the engine installation:

Labor cost | Parts cost | Total cost per airplane | Total cost on U.S. operators
16 work hours × $65 = $1,040 | $1,775 | $2,815 | $208,310

The labor and part costs are covered by Raytheon Aircraft Company warranty to the extent stated in the service information.

Authority for This Rulemaking

What authority does FAA have for issuing this rulemaking action? Title 49 of the United States Code specifies the FAA's authority to issue rules on aviation safety. Subtitle I, Section 106 describes the authority of the FAA Administrator. Subtitle VII, Aviation Programs, describes in more detail the scope of the agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

Will this AD impact various entities? We have determined that this AD will not have federalism implications under Executive Order 13132. This AD will not have a substantial direct effect on the States, on the relationship between the National Government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2005-21239; Directorate Identifier 2005-CE-27-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2005-18-22 Raytheon Aircraft Company: Amendment 39-14263; Docket No. FAA-2005-21239; Directorate Identifier 2005-CE-27-AD.

When Does This AD Become Effective?

(a) This AD becomes effective on November 14, 2005.

What Other ADs Are Affected by This Action?

(b) None.

What Airplanes Are Affected by This AD?

(c) This AD affects Model 390 airplanes that:

(1) Incorporate a serial number of RB-1, RB-4 through RB-84, RB-87 through RB-90, RB-92 through RB-96, RB-98 through RB-101, and RB-103 through RB-107; and

(2) Are certificated in any category.

What Is the Unsafe Condition Presented in This AD?

(d) This AD is the result of reports of inadequate left-hand and right-hand engine assembly cable, wire, and hose routing clearance. The actions specified in this AD are intended to detect and correct chafing conditions in the engine installation, which could result in leaking flammable fluids near an ignition source. This failure could lead to fire damage or loss of airplane control.

What Must I Do To Address This Problem?

(e) To address this problem, you must do the following:

Actions | Compliance | Procedures
Verify minimum clearances to correct chafing conditions in the powerplant left-hand and right-hand engine assembly cable, wire, and hose routing by installation of the following: (i) If Kit No. 390-9104-0001 has already been installed and the tube cleared successfully, then no further action is necessary (ii) If Kit No. 390-9104-0001 has already been installed and clearance with the tube was not obtained, then install Kit No. 390-9104-0003 (iii) If Kit No. 390-9104-0001 has not been installed, then install Kit No. 390-9104-0005 | Within the next 100 hours time-in-service (TIS) or 6 months after November 14, 2005 (the effective date of this AD), whichever occurs first. We established this compliance time to coincide with the next regularly scheduled inspection. You may comply with this AD at any time prior to this time and not have to recomply | Follow Raytheon Aircraft Company Mandatory Service Bulletin No. SB 71-3685, Issued May 2005, Revised: July 2005.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact James P. Galstad, Aerospace Engineer, FAA, Wichita ACO, 1801 Airport Road, Wichita, Kansas 67209; telephone: (316) 946-4135; facsimile: (316) 946-4107.

Does This AD Incorporate Any Material by Reference?

(g) You must do the actions required by this AD following the instructions in Raytheon Aircraft Company Mandatory Service Bulletin No. SB 71-3685, Rev. 1, Issued May 2005, Revised July 2005. The Director of the Federal Register approved the incorporation by reference of this service bulletin in accordance with 5 U.S.C. 552(a) and 1 CFR part 51. To get a copy of this service information, contact Raytheon Aircraft Company, P.O. Box 85, Wichita, Kansas 67201-0085; telephone: (800) 429-5372 or 316-676-3140. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2005-21239; Directorate Identifier 2005-CE-27-AD.

Issued in Kansas City, Missouri, on September 2, 2005.
John R. Colomy,
Acting Manager, Small Airplane Directorate, Aircraft Certification Service.

[FR Doc. 05-17889 Filed 9-12-05; 8:45 am]

BILLING CODE 4910-13-P